DEPARTMENT OF DEFENSE

Department of the Army

Intent To Grant an Exclusive License of a U.S. Government-Owned Patent

AGENCY: Department of the Army, DoD.

ACTION: Notice.

SUMMARY: In accordance with 35 U.S.C. 209(e) and 37 CFR 404.7(a)(I)(i), announcement is made of the intent to grant an exclusive, royalty-bearing, revocable license to U.S. patent application number 09/961,405 filed September 25, 2001, and PCT application number PCT/US01/29848 filed September 25, 2001, entitled “Critical Care Platform for Litters” to Impact Instrumentation, Inc. with its principal place of business at 27 Fairfield Pl., West Caldwell, NJ 07006.

ADDRESSES: Commander, U.S. Army Medical Research and Material Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Anyone wishing to object to the grant of this license has to file written objections along with supporting evidence, if any, by April 3, 2002. Written objections are to be filed with the Command Judge Advocate, U.S. Army Medical Research and Materiel Command, 504 Scott Street, Fort Detrick, Maryland 21702-5012.

Luz D. Ortiz,
Army Federal Register Liaison Officer.

[FR Doc. 02-6581 Filed 3-18-02; 8:45 am]

BILLING CODE 3710-08-M